DEPARTMENT OF THE INTERIOR

Fish and Wildlife Service

[FWS-R3-R-2008-N0186; 30136-1265-0000-S3]

Notice of Decision and Availability of the Record of Decision for the Final Comprehensive Conservation Plan and Environmental Impact Statement for Trempealeau National Wildlife Refuge, Buffalo and Trempealeau Counties, WI

AGENCY: Fish and Wildlife Service, Interior.

ACTION: Notice of decision and availability of the record of decision.

SUMMARY: The U.S. Fish and Wildlife Service announces the decision and availability of the Record of Decision (ROD) for the Final Comprehensive Conservation Plan (CCP) and Environmental Impact Statement (EIS) for Trempealeau National Wildlife Refuge (NWR) in Wisconsin. A thorough analysis of the environmental, social, and economic considerations was completed and presented in the Final CCP/EIS. The Final CCP/EIS was released to the public and a Notice of Availability was published in the Federal Register on April 15, 2008, (73 FR 20329). The ROD documents the selection of Alternative C, the Preferred Alternative in the Final CCP/EIS, as the CCP for Trempealeau National Wildlife Refuge. The ROD was signed by the Regional Director, U.S. Fish and Wildlife Service, Midwest Region, on June 17, 2008.

ADDRESSES: The ROD and Final CCP/EIS may be viewed at Trempealeau National Wildlife Refuge Headquarters. You may obtain a copy of the ROD at the planning website http://www.fws.gov/midwest/planning/Trempealeau or by writing to the following address: U.S. Fish and Wildlife Service, Division of Conservation Planning, Bishop Henry Whipple Federal Building, 1 Federal Drive, Fort Snelling, Minnesota 55111.

FOR FURTHER INFORMATION CONTACT: Vickie Hirschboeck, (608) 539-2311 extension 12.

SUPPLEMENTARY INFORMATION: The Trempealeau National Wildlife Refuge CCP will provide management guidance for conservation of Refuge resources and public use activities during the next 15 years. Three alternatives and their consequences were described in detail in the Draft and Final Environmental Impact Statement. Under all alternatives threatened and endangered species will be protected; cultural resources will be protected; the Refuge's Fire Management Plan will guide prescribed fire and wildfire suppression; mosquito control will only be allowed in cases of a documented human health emergency; appropriate control of fish and wildlife disease will be undertaken if warranted, feasible, and effective; an emergency response plan and training will be developed to address possible contaminant spills; regulations regarding harvesting of fruit, nuts, and other plant parts will be clarified; neighboring landowners will be contacted frequently to discuss issues of concern; an easement and rights-of-way management plan will be developed; and general public use regulations will be annually reviewed and updated.

Alternative A. No Action. Present management practices would continue under this Alternative. The No Action alternative is a status quo alternative where current conditions and trends continue. The alternative served as the baseline to compare and contrast with the other alternatives.

Alternative B. Wildlife and Habitat Focus. Under this alternative there would be minimal disturbance to wildlife from public use and increased level of effort on fish and wildlife habitat management. Habitat management would be a high priority. Invasive species control in the forested habitats would allow restoration of prairie and oak savanna. Prescribed fire and mowing would be used to manage 11 prairie units totaling 585 acres. Pine plantations would be eliminated. Additional dikes and water control structures would be placed within existing impoundments. The deer hunt and furbearer management would continue as in the past. Public use opportunities would be reduced. Environmental education programs would be limited to those that explain Refuge regulations. No waterfowl hunting would be allowed. To reduce disturbance to migrating birds, all pools would be closed to water craft during fall migration (from September 15 through November 15). The Refuge would maintain its present entrance road, which is open to all traffic except for an average of 6 weeks each year when the road is flooded. The Refuge office would remain as is, but the 70-year-old shop would be replaced. The staff would include the addition of a permanent full-time biologist and a private lands biologist and a seasonal biological technician and tractor operator.

Alternative C. Integrated Public Use and Wildlife and Habitat Focus (Preferred Alternative). The Service has selected Alternative C, the Preferred Alternative, as the CCP for the Refuge. Implementation of the CCP will occur over the next 15 years and will depend on future staffing levels and funding.

Under this alternative the focus will be on returning upland areas to pre-European settlement habitats, increasing flexibility in wetland management within impoundments, and increasing public use opportunities. Prairie and oak savanna restoration will be a high priority. Increased efforts to control invasive species will be made using biological, mechanical, and chemical methods. Prescribed fire and mowing will be used to manage 11 prairie units totaling 435 acres. Half of the trees in the pine plantations will be removed through selective thinning. Additional dikes and water control structures will be placed within existing impoundments. The deer hunt and furbearer management will continue as in the past. Public use opportunities will be expanded. Environmental education programs will be promoted at local schools and to community groups and the general public. Waterfowl hunting opportunities will be expanded by opening the area west of the Canadian National Railroad dike to a limited hunt. Ski trails will be maintained when conditions permit. Options to alleviate flooding of the entrance road to provide year-round access to the Refuge will be explored. Use of volunteers will be expanded in all programs. A Trempealeau NWR Friends Group will be started. A multi-purpose Room will be added to the office/visitor contact station to accommodate larger groups and provide a place for orientation. The staff will include the addition of three seasonal positions, including a biological technician, a tractor operator, and a park ranger. Law enforcement duties will be covered by a new position shared with the Winona District. A private lands biologist will also be shared with the Winona District.

Basis for the Decision

Alternative C is the most environmentally preferable alternative. Chapter 1 of the Final EIS identified three broad needs: (1) Contribute to the Refuge System mission; (2) fulfill the purposes of the Refuge; and (3) achieve Refuge goals. Alternative C meets these needs through the most balanced and integrated approach compared to the other alternatives. The rationale for choosing the selected alternative as the best alternative for the Comprehensive Conservation Plan is based on the impact of this alternative on the issues and concerns that surfaced during the planning process. The environmental impacts of the alternatives were analyzed as to how they will impact: (1) Landscape; (2) wildlife and habitat; (3) public use; (4) neighboring landowners and community; and (5) administration and operations. Alternative C has long-term benefits to the natural and human environment. Alternative C will increase water quality and more effectively control invasive plants. This alternative will ensure abundant opportunity for all current recreational uses (e.g., hunting, fishing, observation and photography, interpretation and environmental education). It will have a positive economic impact and will increase the capacity of the Refuge to meet its purposes and mission of the Refuge System. Alternative C is also expected to lead to improved communication and problem solving with neighboring land owners.

Dated: July 22, 2008.
Charles M. Wooley,
Acting Regional Director, U.S. Fish and Wildlife Service, Fort Snelling, Minnesota.

[FR Doc. E8-18296 Filed 8-7-08; 8:45 am]

BILLING CODE 4310-55-P